DEPARTMENT OF HEALTH AND HUMAN SERVICES

National Institutes of Health

Submission for OMB Review; 30-day Comment Request: Family Life, Activity, Sun, Health, and Eating (FLASHE) Study (NCI)

SUMMARY: Under the provisions of Section 3507(a)(1)(D) of the Paperwork Reduction Act of 1995, the National Institutes of Health (NIH), has submitted to the Office of Management and Budget (OMB) a request for review and approval of the information collection listed below. This proposed information collection was previously published in the Federal Register on June 28, 2013, Vol. 78, No. 125, page 28996 and allowed 60-days for public comment. One public comment was received on June 29, 2013 which commented on the expense and topic of the study. An email response was sent on July 8, 2013 stating “Your comments will be taken into consideration. The Division of Cancer Prevention at the NCI supports research that studies the potential impact from a cell, tissue or organism and the pathways associated with disease process.” The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

For Further Information: To obtain a copy of the data collection plans and instruments or request more information on the proposed project contact: Linda Nebeling, Ph.D., Division of Cancer Control and Population Sciences, National Cancer Institute, 9609 Medical Center Drive, Room 3E102, Bethesda, MD 20892-9671 or call non-toll-free number 240-276-6855 or Email your request, including your address to: nebelinl@mail.nih.gov. Formal requests for additional plans and instruments must be requested in writing.

Proposed Collection: Family Life, Activity, Sun, Health, and Eating (FLASHE) Study (NCI), 0925-NEW, Expiration Date xx/xx/xxxx, National Cancer Institute (NCI), National Institutes of Health (NIH).

Need and Use of Information Collection: The FLASHE study seeks to examine psychosocial, generational (parent-adolescent), and environmental correlates of cancer preventive behaviors. FLASHE will examine the science of cancer and obesity prevention by examining correlates of cancer preventive behaviors, mainly diet, activity, and sedentary behaviors (but also examining other behaviors such as sleep, sun-safety, and tobacco) in new ways not previously addressed comprehensively on other surveys. The survey's goal is to advance understanding of the dynamic relationship between the environment, psychosocial factors, and behavior from a dyadic perspective. Data collected will ultimately be a public use dataset and resource to the research community. FLASHE will be collecting data from parents and their adolescent children through a web survey with a final sample size of 2,500 dyads with motion sensing data collected in a subsample of 900 adolescents.

OMB approval is requested for 2 years. There are no costs to respondents other than their time. The total estimated annualized burden hours are 2,243.

Estimated Annualized Burden Hours
Form name | Type of respondent | Number of respondents | Number of responses per respondent | Average burden per response (in hours) | Total annual burden hours
Enrollment and Consent | Parents (enrolling self) | 1,250 | 1 | 10/60 | 208
| Parents (enrolling adolescent) | 1,250 | 1 | 10/60 | 208
| Adolescents (assenting self) | 1,250 | 1 | 5/60 | 104
Web survey with demographics | Parents | 1,250 | 1 | 20/60 | 417
| Adolescents | 1,250 | 1 | 20/60 | 417
Web survey without demographics | Parents | 1,250 | 1 | 15/60 | 313
| Adolescents | 1,250 | 1 | 15/60 | 313
Wear Log | Adolescents | 450 | 7 | 5/60 | 263

Dated: September 10, 2013.
Vivian Horovitch-Kelley,
NCI Project Clearance Liaison, National Institutes of Health.

[FR Doc. 2013-22487 Filed 9-13-13; 8:45 am]

BILLING CODE 4140-01-P